DEPARTMENT OF ENERGY

Federal Energy Regulatory Commission

Combined Notice of Filings

Take notice that the Commission has received the following Natural Gas and Oil Pipeline Rate and Refund Report filings:

Filings Instituting Proceedings

Docket Numbers: RP23-1124-000.

Applicants: Natural Gas Pipeline Company of America LLC.

Description: § 4(d) Rate Filing: Negotiated Rate Agreement Filing—MU Marketing #155829 to be effective 10/1/2023.

Filed Date: 9/29/23.

Accession Number: 20230929-5179.

Comment Date: 5 p.m. ET 10/11/23.

Docket Numbers: RP23-1125-000.

Applicants: Transcontinental Gas Pipe Line Company, LLC.

Description: § 4(d) Rate Filing: Non-Conforming—Leidy Southeast_Piedmont Superseding to be effective 11/1/2023.

Filed Date: 9/29/23.

Accession Number: 20230929-5181.

Comment Date: 5 p.m. ET 10/11/23.

Docket Numbers: RP23-1126-000.

Applicants: Pine Needle LNG Company, LLC.

Description: § 4(d) Rate Filing: Tariff Title Page—Contact Info—2023-09 to be effective 11/1/2023.

Filed Date: 9/29/23.

Accession Number: 20230929-5189.

Comment Date: 5 p.m. ET 10/11/23.

Docket Numbers: RP23-1127-000.

Applicants: Tuscarora Gas Transmission Company.

Description: Compliance filing: 2023 Fuel and Line Loss Report to be effective N/A.

Filed Date: 9/29/23.

Accession Number: 20230929-5193.

Comment Date: 5 p.m. ET 10/11/23.

Docket Numbers: RP23-1128-000.

Applicants: DTM Birdsboro Pipeline, LLC.

Description: § 4(d) Rate Filing: Administrative Update—FERC Gas Tariff Original Volume No. 1 to be effective 11/1/2023.

Filed Date: 9/29/23.

Accession Number: 20230929-5200.

Comment Date: 5 p.m. ET 10/11/23.

Docket Numbers: RP23-1129-000.

Applicants: Washington 10 Storage Corporation.

Description: § 4(d) Rate Filing: Administrative Update—FERC Gas Tariff, Volume No. 1 to be effective 11/1/2023.

Filed Date: 9/29/23.

Accession Number: 20230929-5204.

Comment Date: 5 p.m. ET 10/11/23.

Docket Numbers: RP23-1130-000.

Applicants: Rockies Express Pipeline LLC.

Description: § 4(d) Rate Filing: REX 2023-09-29 Negotiated Rate Agreement to be effective 10/1/2023.

Filed Date: 9/29/23.

Accession Number: 20230929-5214.

Comment Date: 5 p.m. ET 10/11/23.

Docket Numbers: RP23-1131-000.

Applicants: Columbia Gas Transmission, LLC.

Description: § 4(d) Rate Filing: NR NC Agreement—EQT 287537 (Permanent Release from THQ 198800) to be effective 10/1/2023.

Filed Date: 9/29/23.

Accession Number: 20230929-5222.

Comment Date: 5 p.m. ET 10/11/23.

Docket Numbers: RP23-1132-000.

Applicants: Transcontinental Gas Pipe Line Company, LLC.

Description: § 4(d) Rate Filing: Tariff Title Page—Contact Info—2023-09 to be effective 11/1/2023.

Filed Date: 9/29/23.

Accession Number: 20230929-5227.

Comment Date: 5 p.m. ET 10/11/23.

Docket Numbers: RP23-1133-000.

Applicants: Northern Border Pipeline Company.

Description: § 4(d) Rate Filing: Negotiated Rate Agreements—Arconic 276540 & 276541 to be effective 10/1/2023.

Filed Date: 9/29/23.

Accession Number: 20230929-5228.

Comment Date: 5 p.m. ET 10/11/23.

Docket Numbers: RP23-1134-000.

Applicants: Transcontinental Gas Pipe Line Company, LLC.

Description: § 4(d) Rate Filing: Cash Out Surcharge Annual Update Filing 2023 to be effective 11/1/2023.

Filed Date: 9/29/23.

Accession Number: 20230929-5233.

Comment Date: 5 p.m. ET 10/11/23.

Docket Numbers: RP23-1135-000.

Applicants: Transcontinental Gas Pipe Line Company, LLC.

Description: § 4(d) Rate Filing: Tariff Title Page—Contact Info—2023-09 to be effective 11/1/2023.

Filed Date: 9/29/23.

Accession Number: 20230929-5238.

Comment Date: 5 p.m. ET 10/11/23.

Docket Numbers: RP23-1136-000.

Applicants: Transcontinental Gas Pipe Line Company, LLC.

Description: § 4(d) Rate Filing: Tariff Title Page—Contact Info—2023-09 to be effective 11/1/2023.

Filed Date: 9/29/23.

Accession Number: 20230929-5253.

Comment Date: 5 p.m. ET 10/11/23.

Docket Numbers: RP23-1137-000.

Applicants: Panhandle Eastern Pipe Line Company, LP.

Description: § 4(d) Rate Filing: Fuel Filing on 9/29/23 to be effective 11/1/2023.

Filed Date: 9/29/23.

Accession Number: 20230929-5272.

Comment Date: 5 p.m. ET 10/11/23.

Docket Numbers: RP23-1138-000.

Applicants: Wyoming Interstate Company, L.L.C.

Description: Compliance filing: Powder River Implementation Compliance Filing in Docket No. CP23-59 to be effective 11/1/2023.

Filed Date: 9/29/23.

Accession Number: 20230929-5279.

Comment Date: 5 p.m. ET 10/11/23.

Docket Numbers: RP23-1139-000.

Applicants: Adelphia Gateway, LLC.

Description: § 4(d) Rate Filing: Adelphia Non-Conforming Agreements filing to be effective 11/1/2023.

Filed Date: 9/29/23.

Accession Number: 20230929-5289.

Comment Date: 5 p.m. ET 10/11/23.

Docket Numbers: RP23-1140-000.

Applicants: Ozark Gas Transmission, L.L.C.

Description: Compliance filing: Ozark Gas AOG Non-Conforming Agreements to be effective 11/1/2023.

Filed Date: 9/29/23.

Accession Number: 20230929-5303.

Comment Date: 5 p.m. ET 10/11/23.

Docket Numbers: RP23-1141-000.

Applicants: Ruby Pipeline, L.L.C.

Description: § 4(d) Rate Filing: RP 2023-09-29 Non-Conforming Negotiated Rate Amendment to be effective 11/1/2023.

Filed Date: 9/29/23.

Accession Number: 20230929-5314.

Comment Date: 5 p.m. ET 10/11/23.

Docket Numbers: RP23-1142-000.

Applicants: Double E Pipeline, LLC.

Description: § 4(d) Rate Filing: Negotiated Rate & Non-Conforming Agreements—ExxonMobil Oil Corporation to be effective 10/1/2023.

Filed Date: 9/29/23.

Accession Number: 20230929-5319.

Comment Date: 5 p.m. ET 10/11/23.

Docket Numbers: RP23-1143-000.

Applicants: Cimarron River Pipeline, LLC.

Description: § 4(d) Rate Filing: Fuel Rates—2023 to be effective 11/1/2023.

Filed Date: 9/29/23.

Accession Number: 20230929-5324.

Comment Date: 5 p.m. ET 10/11/23.

Docket Numbers: RP24-1-000.

Applicants: Equitrans, L.P.

Description: § 4(d) Rate Filing: Negotiated Rate Capacity Release Agreements—10/1/2023 to be effective 10/1/2023.

Filed Date: 10/2/23.

Accession Number: 20231002-5015.

Comment Date: 5 p.m. ET 10/16/23.

Docket Numbers: RP24-2-000.

Applicants: Texas Eastern Transmission, LP.

Description: § 4(d) Rate Filing: Negotiated Rates—Various Releases 10-2-23 Filing to be effective 10/1/2023.

Filed Date: 10/2/23.

Accession Number: 20231002-5028.

Comment Date: 5 p.m. ET 10/16/23.

Docket Numbers: RP24-3-000.

Applicants: Crown Energy Services, Inc., EnergyMark, LLC.

Description: Joint Petition for Temporary and Limited Waiver of Capacity Release Regulations, et al. of Crown Energy Services, Inc., et al.

Filed Date: 10/2/23.

Accession Number: 20231002-5053.

Comment Date: 5 p.m. ET 10/16/23.

Docket Numbers: RP24-4-000.

Applicants: Gulf South Pipeline Company, LLC.

Description: § 4(d) Rate Filing: Neg Rate Agmt (Permanent Release XTO 51761 to ExxonMobil 57263) to be effective 10/1/2023.

Filed Date: 10/2/23.

Accession Number: 20231002-5112.

Comment Date: 5 p.m. ET 10/16/23.

Docket Numbers: RP24-5-000.

Applicants: Gulf South Pipeline Company, LLC.

Description: § 4(d) Rate Filing: Cap Rel Neg Rate Agmts (Aethon 53154, 52545 to Scona 57211, 57210) to be effective 10/1/2023.

Filed Date: 10/2/23.

Accession Number: 20231002-5115.

Comment Date: 5 p.m. ET 10/16/23.

Docket Numbers: RP24-6-000.

Applicants: Gulf South Pipeline Company, LLC.

Description: § 4(d) Rate Filing: Cap Rel Neg Rate Agmt (Osaka 46429 to Texla 57216, ConocoPhillips 57288) to be effective 10/1/2023.

Filed Date: 10/2/23.

Accession Number: 20231002-5118.

Comment Date: 5 p.m. ET 10/16/23.

Docket Numbers: RP24-7-000.

Applicants: Gulf South Pipeline Company, LLC.

Description: § 4(d) Rate Filing: Amendments to Neg Rate Agmts (Calyx 51762, 51780) to be effective 10/1/2023.

Filed Date: 10/2/23.

Accession Number: 20231002-5121.

Comment Date: 5 p.m. ET 10/16/23.

Docket Numbers: RP24-8-000.

Applicants: WBI Energy Transmission, Inc.

Description: Annual Penalty Revenue Credit Report of WBI Energy Transmission, Inc.

Filed Date: 10/2/23.

Accession Number: 20231002-5132.

Comment Date: 5 p.m. ET 10/16/23.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: RP19-78-012.

Applicants: Panhandle Eastern Pipe Line Company, LP.

Description: Compliance filing: Opinion No. 885-A Compliance Filing—Docket Nos. RP19-78, RP19-1523 & RP19-257 to be effective 3/1/2020.

Filed Date: 9/29/23.

Accession Number: 20230929-5263.

Comment Date: 5 p.m. ET 10/11/23.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: October 2, 2023.
Debbie-Anne A. Reese,
Deputy Secretary.

[FR Doc. 2023-22314 Filed 10-5-23; 8:45 am]

BILLING CODE 6717-01-P